Title 3—

The President

Memorandum of September 11, 2000

Delegation of Authority Under the Iran Nonproliferation Act of 2000 (Public Law 106-178)

Memorandum for the Secretary of State [and] the Administrator of the National Aeronautics and Space Administration

By the authority vested in me by the Constitution and the laws of the United States of America, including section 301 of title 3 of the United States Code, I hereby delegate to the Secretary of State the functions and authorities conferred on the President under the Iran Nonproliferation Act of 2000 (Public Law 106-178), with the exception of subsections (f) and (g) of section 6, from which I delegate to the Secretary of State only sections 6(f)(2)(A) and 6(g)(1)(B). The remaining functions and authorities under subsections (f) and (g) of section 6 not delegated to the Secretary of State I hereby delegate to the Administrator of the National Aeronautics and Space Administration.

The authorities and functions delegated in this memorandum may be redelegated.

Any reference in this memorandum to any act shall be deemed to be a reference to such act as amended from time to time. The Secretary of State is authorized and directed to publish this memorandum in the Federal Register.

wj

THE WHITE HOUSE,

Washington, September 11, 2000.

[FR Doc. 00-24054

Filed 9-15-00; 8:45 am]

Billing code 4710-10-M